ENVIRONMENTAL PROTECTION AGENCY

[EPA-HQ-OPPT-2007-0394; FRL-8131-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from March 26, 2007 to April 27, 2007, consists of the PMNs and TMEs, both pending or expired, and the notices of commencement to manufacture a new chemical that the Agency has received under TSCA section 5 during this time period.

DATES: Comments identified by the specific PMN number or TME number, must be received on or before June 18, 2007.

ADDRESSES

:

Submit your comments, identified by docket identification (ID) number EPA-HQ-OPPT-2007-0394, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2007-0394. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2007-0394. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket's index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone numberof the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from March 26, 2007 to April 27, 2007, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 80 Premanufacture Notices Received From: 03/26/07 to 04/27/07
Case No. | Received Date | Projected Notice End Date | Manufacturer/Importer | Use | Chemical
P-07-0319 | 03/26/07 | 06/23/07 | CBI | (G) Raw material for polymer paint additive | (G) Alkylamino alcohol
P-07-0326 | 03/26/07 | 06/23/07 | CBI | (G) Paint additive | (G) Polyurethane
P-07-0327 | 03/26/07 | 06/23/07 | CBI | (G) Antioxidant | (G) Ncs 1: Substituted phenol
P-07-0328 | 03/26/07 | 06/23/07 | CBI | (G) Antioxidant | (G) Ncs 2: Substituted phenol
P-07-0329 | 03/26/07 | 06/23/07 | CIBA Specialty Chemicals Corporation | (G) Ultra violet stabilizer for coatings | (G) Derivative of 2,4-dihydroxy benzophenone
P-07-0330 | 03/28/07 | 06/25/07 | 3M Company | (G) Film coating additive | (G) Surface modified ceramic materials and wares, chemicals
P-07-0331 | 03/28/07 | 06/25/07 | CBI | (S) Hardener for architectural coatings; hardener for metal primers for maintenance coatings | (G) 1,2-ethanediamine, N1-(2-aminoethyl)-, reaction products with glycidyl aromatic ether
P-07-0332 | 03/28/07 | 06/25/07 | 3M Company | (G) Surface modifier | (G) Alkyloxy carboxylic acid
P-07-0333 | 03/29/07 | 06/26/07 | CBI | (G) Open non-dispersive resin | (G) Aromatic isocyanate prepolymer
P-07-0334 | 03/28/07 | 06/25/07 | Cytec Industries Inc. | (G) Coatings resin | (G) Acrylated aliphatic polyurethane
P-07-0335 | 03/30/07 | 06/27/07 | CBI | (G) Adhesive for electrical parts | (G) Epoxy resin
P-07-0336 | 04/02/07 | 06/30/07 | The Dow Chemical Company | (G) One-component foaming adhesives and sealants for roofing and construction | (G) Polymeric mdi prepolymer based on poly(oxyethylene-co-oxypropylene) triol and amine initiated tetrol
P-07-0337 | 04/02/07 | 06/30/07 | CBI | (G) Open non-dispersive (sizing agent) | (G) Polyester polyurethane
P-07-0338 | 04/02/07 | 06/30/07 | CBI | (G) Open non-dispersion (coatings) | (G) Aliphatic polyurethane resin
P-07-0339 | 03/29/07 | 06/26/07 | Ashland Inc., Environmental Health and Safety | (G) Ink, coating, adhesive | (G) Polyacrylate oligomer product from base-catalyzed reaction of dipropylene gylcol diacrylate, genomer 3364 amine-modified polyacrylate, ethoxylated trimethylol propane triacrylate and .beta.-ketoester
P-07-0340 | 03/29/07 | 06/26/07 | Ashland Inc., Environmental Health and Safety | (G) Ink, coating, adhesive | (G) Polyacrylate oligomer product from base-catalyzed reaction of 1,6-hexanediol diacrylate, genomer 3364 amine-modified polyacrylate, ethoxylated trimethylol propane triacrylate and .beta.-ketoester
P-07-0341 | 03/29/07 | 06/26/07 | Ashland Inc., Environmental Health and Safety | (G) Ink, coating, adhesive | (G) Polyacrylate oligomer product from base-catalyzed reaction of dipropylene gylcol diacrylate, ebecryl 81 amine-modified polyacrylate, ethoxylated trimethylol propane triacrylate and .beta.-ketoester
P-07-0342 | 03/29/07 | 06/26/07 | Ashland Inc., Environmental Health and Safety | (G) Ink, coating, adhesive | (G) Polyacrylate oligomer product from base-catalyzed reaction of 1,6-hexanediol diacrylate, ebecryl 81 amine-modified polyacrylate, ethoxylated trimethylol propane triacrylate and .beta.-ketoester
P-07-0343 | 03/29/07 | 06/26/07 | Ashland Inc., Environmental Health and Safety | (G) Ink, coating, adhesive | (G) Polacrylate oligomer product from base-catalyzed reaction of dipropylene gylcol diacrylate, genomer 3364 amine-modified polyacrylate, ethoxylated trimethylol propane triacrylate and .beta.-ketoester
P-07-0344 | 03/29/07 | 06/26/07 | Ashland Inc., Environmental Health and Safety | (G) Ink, coating, adhesive | (G) Polyacrylate oligomer product from base-catalyzed reaction of ethoxylated 1,6-hexanediol diacrylate, genomer 3364 amine-modified polyacrylate, ethoxylated trimethylol propane triacrylate and .beta.-ketoester
P-07-0345 | 04/02/07 | 06/30/07 | CBI | (G) Component of manufactured consumer article-contained use | (G) Spiro[isobenzofuran-1(3H),polyheterocycle]-3-one, 3′-[(4-fluoro-2-methylphenyl)amino]-6′-[(2-fluorophenyl)amino]-
P-07-0346 | 03/29/07 | 06/26/07 | Shin-etsu Silicones of America Inc. | (S) Additive of adhesives for building materials | (S) Siloxanes and silicones, hydroxy me 3-hydroxypropyl me, me (1-oxododecyl)oxy, esters with C12-20 fatty acids, esters with polyethylene-polypropylene glycol mono-bu ether
P-07-0347 | 04/02/07 | 06/30/07 | CBI | (S) Organic synthesis intermediate | (G) Spiro[isobenzofuran-1(3h),polyheterocycle]-3-one, 3′-chloro-6′-[(4-fluoro-2-methylphenyl)amino]-
P-07-0348 | 04/03/07 | 07/01/07 | CBI | (G) Packaging | (G) Copolymer based on sulfonic acid monomer
P-07-0349 | 04/03/07 | 07/01/07 | 3M | (G) Fluorinated additive for polymers | (G) Fluorinated alkylammonium salt
P-07-0350 | 04/03/07 | 07/01/07 | Incorez Corporation | (S) Binder, coating or modifying resin used in the manufacture of coatings for wood, plastic and cementitous substrates | (G) Aqueous aliphatic anionio polyunethane dispersion
P-07-0351 | 04/04/07 | 07/02/07 | CBI | (G) Component of manufactured consumer article - contained use | (G) Carbomonocycle, bis[(4-methylphenoxy)methyl]-
P-07-0352 | 04/04/07 | 07/02/07 | CBI | (G) Coating component | (G) Modified polymer of substituted acrylate and alkyl methacrylates
P-07-0353 | 04/05/07 | 07/03/07 | 3M Company | (G) Chemical intermediate | (G) Alkyl acid fluoride
P-07-0354 | 04/05/07 | 07/03/07 | E.I. Dupont De Nemours | (S) Industrial intermediate | (G) N-methyl- (amino,chloro,methyl) carbomonocyclic carbamide
P-07-0355 | 04/05/07 | 07/03/07 | E.I. Dupont De Nemours | (S) Industrial intermediate | (G) 3-bromo-1-(3-chloro-2-pyridinyl)-1H-pyrazole derivative
P-07-0356 | 04/04/07 | 07/02/07 | CBI | (G) Coating resin for open, non-dispersive use | (G) Polymer with aliphatic diisocyanates, polycarbonatediol and bishydroxymethylproionic acid
P-07-0357 | 04/05/07 | 07/03/07 | Crosslink Energy Materials, LLC | (S) Conductive coating for electrical capacitors | (G) Polyaniline emeraldine salt
P-07-0358 | 04/09/07 | 07/07/07 | CBI | (G) Open non dispersive use | (G) Hexitol, anhydro-, bis[[(1-oxo-2-propenyl)oxy]benzoate], polymer with phenylene bis[[(1-oxo-2-propenyl)oxy]alkyl(C1-C10)oxy benzoate]
P-07-0359 | 04/09/07 | 07/07/07 | CBI | (G) An open non-dispersive use | (G) Halide of unsaturated alkyl hydrocarbon
P-07-0360 | 04/09/07 | 07/07/07 | Danisco US, Inc. | (S) Hydrolysis of phytate | (G) Phytase
P-07-0361 | 04/10/07 | 07/08/07 | Alberdingk boley Inc. | (S) For wood coatings | (G) Linseed oil, ester with pentaerythritol, polymer with hydrazine, 3-hydroxy-2-(hydroxymethyl)2-methylpropanoic acid, 5-isocyanato-1-(isocyanatomethyl)-alkylcychexane, 1,1′- methylenebis [4.isocyanatocyclohexane] and polypropylene glycol,compounds with triethylamine
P-07-0362 | 04/10/07 | 07/08/07 | Dupont Company | (S) Production of molded articles/parts; production of filaments; production of extruded articles | (G) Butylene phthalate(poly-1,3-propyleneoxide) phthalate copolymer
P-07-0363 | 04/10/07 | 07/08/07 | Dupont Company | (S) Production of molded articles/parts; production of filaments; production of extruded articles | (G) Butylene phthalate(poly-1,3-propyleneoxide) phthalate copolymer
P-07-0364 | 04/10/07 | 07/08/07 | Dupont Company | (S) Production of molded articles/parts; production of filaments; production of extruded articles | (G) Butylene phthalate(poly-1,3-propyleneoxide) phthalate copolymer
P-07-0365 | 04/10/07 | 07/08/07 | Dupont Company | (S) Production of molded articles/parts; production of filaments; production of extruded articles | (G) Butylene phthalate(poly-1,3-propyleneoxide) phthalate copolymer
P-07-0366 | 04/10/07 | 07/08/07 | CBI | (S) Precursor for use in semiconductor processing | (G) Metal alkyl amide
P-07-0367 | 04/10/07 | 07/08/07 | CBI | (G) Lubricant additive | (G) Fluorinated zinc dialkyldthiophosphate
P-07-0368 | 04/04/07 | 07/02/07 | Henkel Corporation | (G) Adhesive component | (G) Phenol, substituted-, polymer with substituted oxirane and substituted thiol
P-07-0369 | 04/10/07 | 07/08/07 | Robertet, Inc. | (S) As an odoriferous component of fragrance compounds | (S) Oils, poplar, populus nigra
P-07-0370 | 04/11/07 | 07/09/07 | CBI | (G) Catalyst of polyurethane foam manufacture | (G) Glycol phosphite
P-07-0372 | 04/12/07 | 07/10/07 | CBI | (S) Colorant in thermoplastics | (G) Amine derivative of ci pigment yellow 138
P-07-0373 | 04/12/07 | 07/10/07 | CBI | (S) Colorant in thermoplastics | (G) Counterion of sulfonated ci pigment yellow 138
P-07-0374 | 04/12/07 | 07/10/07 | CBI | (S) Colorant in thermoplastics; colorant in coatings/paints | (G) Oligomeric hindered amine derivative of ci pigment yellow 138
P-07-0375 | 04/12/07 | 07/10/07 | J.M. Huber Corporation | (S) Flame retardant | (G) Aluminum trihydrate surface treated
P-07-0376 | 04/12/07 | 07/10/07 | Boulder Scientific Company | (S) Chemical intermediate | (S) 1,2-cyclohexanedicarboxylic acid, (1r,2r)-re-
P-07-0377 | 04/12/07 | 07/10/07 | Neste Oil | (S) Renewable diesel fuel to be blended with conventional diesel | (G) Alkanes, branched and linear
P-07-0378 | 04/13/07 | 07/11/07 | Renosol Systems, L.L.C. | (S) Reactive component in a polyol mixture subsequently reacted with an isocyanate to mold polyurethane foam; reactive component in a polyol mixture sold with an isocyanate to mold polyurethane articles. | (G) Methylenebisisocyanatocarbomonocycle, reaction product with polyalkyloxirane and oligomeric hydroxyalkenyl ester
P-07-0379 | 04/16/07 | 07/14/07 | Henkel Corporation | (S) A polymerizable component of adhesive and sealant formulations | (S) Ethanol, 2,2′,2′′-nitrilotris-, polymer with .alpha.-hydro-.omega.-hydroxypoly(oxy-1,4-butanediyl) and 1,1′-methylenebis[4-isocyanatocyclohexane], 2-hydroxyethyl acrylate-blocked
P-07-0380 | 04/16/07 | 07/14/07 | CBI | (G) Intermediate in the manufacture of hot melt adhesives. | (S) Fatty acids, C18-unsaturated, dimers, polymers with ethylenediamine, 12-hydroxyoctadecanoic acid, 4-methyl-1,3-dioxolan-2-one, piperazine, polypropylene glycol diamine and stearic acid
P-07-0381 | 04/16/07 | 07/14/07 | CBI | (G) Intermediate in the manufacture of hot melt adhesives. | (S) Fatty acids, C18-unsaturated, dimers, polymers with ethylenediamine, 12-hydroxyoctadecanoic acid, 4-methyl-1,3-dioxolan-2-one, piperazine, polypropylene glycol diamine and tall-oil fatty acids
P-07-0382 | 04/16/07 | 07/14/07 | CBI | (G) Intermediate in the manufacture of hot melt adhesives. | (S) Fatty acids, C18-unsaturated, dimers, polymers with ethylenediamine, 12-hydroxyoctadecanoic acid, 4-methyl-1,3-dioxolan-2-one, piperazine, polypropylene glycol diamine, sebacic acid and stearic acid
P-07-0383 | 04/16/07 | 07/14/07 | CBI | (G) Intermediate in the manufacture of hot melt adhesives. | (S) Fatty acids, C18-unsaturated, dimers, polymers with ethylenediamine, 12-hydroxyoctadecanoic acid, 4-methyl-1,3-dioxolan-2-one, piperazine, polypropylene glycol diamine, sebacic acid and tall-oil fatty acids
P-07-0384 | 04/16/07 | 07/14/07 | CBI | (G) Intermediate in the manufacture of hot melt adhesives. | (S) Fatty acids, C18-unsaturated, dimers, hydrogenated, polymers with ethylenediamine, 12-hydroxyoctadecanoic acid, 4-methyl-1,3-dioxolan-2-one, piperazine, polypropylene glycol diamine and stearic acid
P-07-0385 | 04/16/07 | 07/14/07 | CBI | (G) Intermediate in the manufacture of hot melt adhesives. | (S) Fatty acids, C18-unsaturated, dimers, polymers with ethylenediamine, hexamethylenediamine, 12-hydroxyoctadecanoic acid, 4-methyl-1,3-dioxolan-2-one, piperazine, polypropylene glycol diamine and stearic acid
P-07-0386 | 04/17/07 | 07/15/07 | CBI | (G) Catalyst: dispersive use | (G) Heteropolycycle alkyl ether sulfate salt
P-07-0387 | 04/17/07 | 07/15/07 | Wacker chemical Corporation | (S) Textile softner; note 1-2% of the new polymer will be in consumer product from the 100% formulated at the industrial sites | (S) polydimethylsilozxane hydroxyalkyl terminated, polymers with diisocyanate and aminodlkyl groups alphatic amine
P-07-0388 | 04/17/07 | 07/15/07 | Wacker Chemical Corporation | (S) Textile softner | (G) Polydimethylsiloxane hydroxyalkyl terminated, polymers with diisocyanate and aminoalkyl groups aliphatic amine blocked, acetates
P-07-0389 | 04/17/07 | 07/15/07 | Henkel Corporation | (S) A polymerizable component in adhesive and selant formulations | (G) Trialkenyl substituted cyclic alkane
P-07-0390 | 04/18/07 | 07/16/07 | CBI | (G) Defoamer | (G) Silicone polyglycol ether
P-07-0391 | 04/18/07 | 07/16/07 | CBI | (G) Open, non-dispersive (resin) | (G) Polyurethane-polyurea resin
P-07-0392 | 04/18/07 | 07/16/07 | CBI | (G) Exterior can coating | (G) Modified epoxy resin
P-07-0393 | 04/19/07 | 07/17/07 | Forbo Adhesives, LLC | (G) Hot melt adhesive | (G) Isocyanate functional polyester urethane polymer
P-07-0394 | 04/20/07 | 07/18/07 | CBI | (G) Mineral dispersion processing aid | (G) Alkoxy siloxane
P-07-0395 | 04/23/07 | 07/21/07 | CBI | (S) An ingredient for production of halo-substituted organic compounds | (G) Dialkyl formamide
P-07-0396 | 04/20/07 | 07/18/07 | Colonial Chemical, Inc. | (S) Drilling mud additive | (S) 1,3-propanediaminium, 2-hydroxy-N,N′-bis(2-hydroxyethyl)-N,N,N′,N′-teramethyl-, dichloride
P-07-0397 | 04/23/07 | 07/21/07 | CBI | (S) Coupling agent for filled polyolefin; compatibilizer for polyolefin blends with engineering plastics | (G) Maleic anhydride grafted polyolein
P-07-0398 | 04/23/07 | 07/21/07 | CBI | (G) Stabilizer | (G) Oligomeric aliphatic diisocyanate
P-07-0399 | 04/24/07 | 07/22/07 | CBI | (G) Component of foam | (G) Fatty acid polymer with aliphatic diol and aromatic
P-07-0400 | 04/24/07 | 07/22/07 | CBI | (G) Open non-dispersive (coating material) | (G) Aliphatic polyurethane resin
P-07-0401 | 04/24/07 | 07/22/07 | Scientific polymer products, Inc. | (G) Matrix for analysis device; open, non-dispersive use. | (S) 2-propenoic acid, 2-methyl, 2-hydroxyethyl ester, homopolymer
P-07-0402 | 04/20/07 | 07/18/07 | CBI | (G) Additive for polymers | (G) Alkylphenoxy naphthalic acid amide, N-alkylphenyl-
P-07-0403 | 04/25/07 | 07/23/07 | Struktol Company of America | (S) Lubricant for nylon and plastic | (G) Adipamide
P-07-0404 | 04/25/07 | 07/23/07 | CBI | (G) Pigment for ink | (G) Substituted quinacridone, substituted phthalimidomethyl derivatives
P-07-0405 | 04/25/07 | 07/23/07 | CBI | (G) Pigment for ink | (G) Substituted quinacridone, aminophthalimidomethyl derivatives
P-07-0406 | 04/26/07 | 07/24/07 | CBI | (G) A destructive use in energy production. | (S) Benzenesulfonic acid, C10-16-alkyl derivates, reaction products with aluminum hydroxide oxide (a1(oh)o)
P-07-0407 | 04/26/07 | 07/24/07 | CBI | (G) Component of foam | (G) Fatty acid polymer with aliphatic diol and aromatic diacid

In Table II of this unit, EPA provides the following information (to the extent that such information is not claimed as CBI) on the TME received:

II. 1 Test Marketing Exemption Notices Received From: 03/26/07 to 04/27/07
Case No. | Received Date | Projected Notice End Date | Manufacturer/Importer | Use | Chemical
T-07-0012 | 03/30/07 | 05/13/07 | Cytec Industries Inc. | (G) Coatings resin | (G) Acrylated aliphatic polyurethane

In Table III of this unit, EPA provides the following information (to the extent that such information is not claimed as CBI) on the Notices of Commencement to manufacture received:

III. 42 Notices of Commencement From: 03/26/07 to 04/27/07
Case No. | Received Date | Commencement Notice End Date | Chemical
P-00-1051 | 04/10/07 | 03/29/07 | (G) Polyol fatty acid ester
P-01-0862 | 04/17/07 | 03/21/07 | (G) Ethoxylated alkylsulfate, substituted alkylamine salt
P-02-0228 | 03/30/07 | 03/02/07 | (G) dioxaspriro(4,5)-decane, 8,8-dimethyl -(1-metlethyl)
P-02-0604 | 04/23/07 | 04/07/07 | (G) Acrylic copolymer
P-04-0369 | 04/09/07 | 03/29/07 | (G) Ketoester
P-06-0021 | 04/02/07 | 03/27/07 | (G) Substituted metallized organic dye
P-06-0220 | 04/18/07 | 03/18/07 | (G) Methacrylic acid, polymer with acrylic and methacrylic acid derivatives
P-06-0232 | 04/20/07 | 04/06/07 | (G) Substituted polyaryl sulfonium compound
P-06-0429 | 04/13/07 | 04/05/07 | (G) Polyoxyalkylene siloxane
P-06-0435 | 04/13/07 | 04/01/07 | (G) Hydridosiloxane
P-06-0478 | 04/23/07 | 03/22/07 | (G) Fluoroalkyl acrylate copolymer
P-06-0524 | 04/25/07 | 03/29/07 | (S) Propanesulfonic acid, 1(or 2)-hydroxy-, monosodium salt
P-06-0538 | 04/03/07 | 03/30/07 | (G) Alkyl substituted pyridone azo anthraquinone compound
P-06-0549 | 03/28/07 | 03/13/07 | (G) Quaternized styrene polymer
P-06-0550 | 03/28/07 | 03/13/07 | (G) Quaternized styrene polymer
P-06-0665 | 04/09/07 | 03/27/07 | (G) Alkenedioic acid, dialkyl ester, reaction products with polyaminocarbomonocycle and alkenoic acid alkyl ester
P-06-0673 | 04/23/07 | 04/13/07 | (G) Silylated polymer
P-06-0695 | 04/25/07 | 04/20/07 | (G) Isocyanate terminated adduct of polymeric isocyanate with an amine silane
P-06-0724 | 04/04/07 | 03/02/07 | (S) Butanamide, 2-ethyl-N-methyl-N-(3-methylphenyl)-
P-06-0737 | 04/24/07 | 04/13/07 | (G) Substituted melamine
P-06-0746 | 04/04/07 | 03/02/07 | (S) Pyridine, 2-(2,4-dimethylcyclohexyl)-
P-06-0756 | 04/23/07 | 04/05/07 | (G) 2-propenoic acid, 2-methyl-, 2-(dimethylamino)ethyl ester, polymer wiyh alkyl 2-propenoate, ethenylbenzene and 2-hydroxyethyl 2-propenoate, acetate (salt) formate (salt)
P-06-0763 | 03/28/07 | 03/07/07 | (S) Aspartic acid, N-[(1S)-1,2-dicarboxyethyl]-3-hydroxy-, tetrasodium salt
P-06-0766 | 04/10/07 | 03/15/07 | (G) Sodium, bis((substituted)-(sulfonatocarbocycleamino)-triazine-yl]amino)-sulfonatostilbene
P-06-0781 | 03/27/07 | 03/09/07 | (G) Substituted disbasic ester
P-06-0804 | 04/18/07 | 03/27/07 | (G) Polyurethane prepolymer
P-07-0021 | 04/04/07 | 04/02/07 | (G) Phenol, 2,4-bis(1,1-branched alkyl)-, phosphate (3:1)
P-07-0050 | 04/04/07 | 03/15/07 | (G) Polyester polyurethane resin based on 1,5-naphthylene diisocyanate.
P-07-0059 | 04/05/07 | 03/22/07 | (G) Cyclic acrylic polymer, peroxide initiated
P-07-0078 | 03/26/07 | 03/05/07 | (G) Acrylic polymer salt with vinyl compound, salts
P-07-0088 | 04/10/07 | 03/30/07 | (G) Tdi/ppg ether prepolymer
P-07-0099 | 04/02/07 | 03/25/07 | (G) Substituted carbopolycycle, polymer with substituted alkane and trialkylene glycol, substituted epoxy alkyl ester
P-07-0104 | 04/05/07 | 03/02/07 | (G) Mixed esters of diacids with alcohols and acid-alcohols
P-07-0124 | 04/02/07 | 03/26/07 | (S) Siloxanes and silicones, di-me, 3-(2-hydroxyethoxy)??propyl group-terminated, polymers with 5-amino-1,3,3-trimethylcyclohexanemethanamine, di-et carbonate, 1,6-hexanediol and 1,1′-methylenebis[4-isocyanatocyclohexane], me et ketone oxime-blocked
P-07-0127 | 03/23/07 | 03/19/07 | (G) Acrylic copolymer
P-07-0140 | 04/23/07 | 03/26/07 | (G) Quino [2,3-b]acridine-7,14-dione, 5,12-dihydro-ar-[4-[[2-(sulfooxy)ethyl]substituted]phenyl]-, monosodium salt
P-07-0142 | 04/25/07 | 03/28/07 | (G) Amine modified phenol formaldehyde polymer
P-07-0150 | 04/10/07 | 03/29/07 | (G) Dimer fatty acid based polyester polyurethane
P-07-0151 | 04/24/07 | 04/12/07 | (G) Arylacrylate
P-07-0160 | 04/12/07 | 04/08/07 | (G) Organosilane derivative
P-91-0085 | 04/18/07 | 01/04/01 | (S) 3-(1-methylethyl)-bicyclo(2.2.1)hept-5-ene-2-carboxylic acid, ethyl ester; mixture of (2-exo,3-endo) and (2-endo, 3-exo)
P-91-1084 | 04/04/07 | 03/27/07 | (S) Fatty acids, C18-unsaturated, dimers, mixed esters with octanoic acid, decanoic acid and trimethylolpropane

List of Subjects

Environmental protection, Chemicals, Premanufacturer notices.

Dated: May 10, 2007.
Todd S. Holderman,
Acting Director, Information Management Division, Office of Pollution Prevention and Toxics.

[FR Doc. E7-9596 Filed 5-17-07; 8:45 am]

BILLING CODE 6560-50-S